INTERNATIONAL TRADE COMMISSION

[USITC SE-05-037]

Sunshine Act Meeting Notice; Notice of Revised Agenda Item

AGENCY HOLDING THE MEETING: United States International Trade Commission.

TIME AND DATE: November 2, 2005 at 2 p.m.

PLACE: Room 101, 500 E Street SW., Washington, DC 20436, Telephone: (202) 205-2000.

STATUS: Open to the public.

REVISED AGENDA ITEM: 4. Inv. Nos. 751-TA-28-29 (Certain Frozen Warmwater Shrimp and Prawns from India and Thailand)—briefing and vote. (The Commission is currently scheduled to transmit its determination and Commissioners' opinions to the Secretary of Commerce on or before November 21, 2005.)

Issued: October 26, 2005.
Marilyn R. Abbott,
Secretary to the Commission.

[FR Doc. 05-21711 Filed 10-27-05; 11:42 am]

BILLING CODE 7020-02-P